DEPARTMENT OF COMMERCE

Submission for OMB Review; Comment Request

The Department of Commerce will submit to the Office of Management and Budget (OMB) for clearance the following proposal for collection of information under the emergency provisions of the Paperwork Reduction Act (44 U.S.C. chapter 35).

Agency: International Trade Administration.

Title: Market Research to Broaden and Deepen U.S. Exporter Base.

OMB Control Number: 0625-0264.

Form Number(s): ITA-4158P (formerly 8710); ITA-4159P (formerly 8711); ITA-4160P (formerly 8712); and ITA-4161P (formerly 8713).

Type of Review: Regular submission (extension of a currently approved information collection).

Number of Respondents: 4,800.

Average Hours per Response: 15 minutes for ITA-4158P; and 30 minutes for ITA-4159P, ITA-4160P, and ITA-4161P.

Burden Hours: 2,300.

Needs and Uses: Expanding U.S. exports is a national priority essential to improving U.S. trade performance. The Department of Commerce (DOC) International Trade Administration (ITA) U.S. Commercial Service (CS) serves as the key U.S. government agency responsible for promoting exports of goods and services from the United States, particularly by small and medium-sized enterprises, and assisting U.S. exporters in their dealings with foreign governments.

Section 4721 of 15 United States Code contains several provisions that direct the CS to, “identify United States businesses with the potential to export goods and services and provide such businesses with advice and information on establishing export businesses.” As such, the long-term performance goal of the CS is to “broaden and deepen the U.S. exporter base.”

Affected Public: Business or other for-profit organizations.

Frequency: Once (ITA-4158P, ITA-4159P, and ITA-4160P); Annually (ITA-4161P).

Respondent's Obligation: Voluntary.

OMB Desk Officer: Wendy Liberante, (202) 395-3647.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Wendy Liberante, OMB Desk Officer, Fax number (202) 395-5167 or via the Internet at Wendy_L._Liberante@omb.eop.gov.

Dated: April 23, 2012.
Gwellnar Banks,
Management Analyst, Office of the Chief Information Officer.

[FR Doc. 2012-10067 Filed 4-25-12; 8:45 am]

BILLING CODE 3510-13-P